NUCLEAR REGULATORY COMMISSION

[Docket No. 03039345; EA-2024-007; IA-2024-007; NRC-2024-0224]

In the Matter of David Huey; Order

AGENCY: Nuclear Regulatory Commission.

ACTION: Notice; issuance.

SUMMARY: The U.S. Nuclear Regulatory Commission (NRC) is issuing an Order prohibiting Mr. Huey, a former manager at Titan Inspections, Inc. (Titan), from participating in NRC-licensed activities for three years. This action is being taken because the NRC determined that Mr. Huey deliberately caused Titan to violate NRC requirements by directing a radiographer to perform radiography at a location within NRC jurisdiction without a second qualified individual being present. Such conduct violates NRC regulations, which prohibit any licensee or employee of a licensee from engaging in deliberate misconduct that causes or would have caused, if not detected, a licensee, to be in violation of any rule, regulation, order, or any term, condition, or limitation of any license issued by the Commission. The Order is effective upon issuance.

DATES: The Order was issued on December 12, 2024.

ADDRESSES: Please refer to Docket ID NRC-2024-0224 when contacting the NRC about the availability of information regarding this document. You may obtain publicly available information related to this document using any of the following methods:

• Federal Rulemaking website: Go to https://www.regulations.gov and search for Docket ID NRC-2024-0224. Address questions about Docket IDs in Regulations.gov to Stacy Schumann; telephone: 301-415-0624; email: Stacy.Schumann@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Carmen Rivera, Office of Enforcement, U.S. Nuclear Regulatory Commission, Washington, DC 20555-0001; telephone: 301-415-0296; email: Carmen.Rivera@nrc.gov.

SUPPLEMENTARY INFORMATION: The text of the order is attached.

Dated: January 7, 2025.
For the Nuclear Regulatory Commission.
David Pelton,
Director, Office of Enforcement.

Attachment—Order

UNITED STATES OF AMERICA

NUCLEAR REGULATORY COMMISSION

In the Matter of David Huey

IA-24-007

Order Prohibiting Involvement in NRC-Licensed Activities

David Huey (Huey) is a manager employed by Titan Inspection, Inc. (Titan). During the relevant time periods discussed below, Titan did not possess a specific license issued by the U.S. Nuclear Regulatory Commission (NRC) under Title 10 of the Code of Federal Regulations (10 CFR) Part 30, but possessed a specific license issued under the regulatory jurisdiction of the Commonwealth of Pennsylvania. The Commonwealth of Pennsylvania is an Agreement State, which means it has entered into an agreement with the NRC to regulate certain radioactive material within its borders. As an Agreement State licensee, Titan could conduct radiography in NRC jurisdiction under the general NRC license granted pursuant to 10 CFR 150.20. As of September 27, 2023, Titan holds license No. 37-35708-01 issued by the NRC. The license authorizes Titan to possess and utilize material for the purposes of industrial radiography.

II

An investigation was initiated by the NRC, Office of Investigations (OI), Region I, on December 19, 2022, to determine, in part, whether Huey deliberately directed a Titan radiographer to perform radiographic operations at a temporary jobsite in West Virginia, NRC jurisdiction, on November 16, 2022, without a second qualified individual. NRC regulations, specifically 10 CFR 34.41(a), require that whenever radiography is performed at a location other than a permanent radiographic installation, a radiographer must be accompanied by at least one other qualified radiographer or an individual who has, at a minimum, met the requirements of 10 CFR 34.43(c). Radiography may not be performed if only one qualified individual is present. Huey stated during the OI interview that he was aware of the requirement to have a second qualified individual present when conducting radiography. On November 16, 2022, at his direction, a radiographer completed eleven radiographs without a second qualified individual.

In a letter dated May 16, 2024, the NRC informed Huey that the NRC was considering escalated enforcement action against him for apparent violations of the NRC's deliberate misconduct rule, 10 CFR 30.10(a)(1). In the letter, the NRC offered Huey the opportunity to respond in writing to the apparent violation, request a Predecisional Enforcement Conference (PEC), or request Alternative Dispute Resolution (ADR). Although Huey did sign the ADR agreement, neither Huey, nor his attorney, responded to requests for dates to hold an ADR session. On October 7, 2024, we sent letters to you and your attorney stating that if we did not hear back from you or your attorney within 10 days of confirmed receipt of our letter, that the NRC would proceed with its enforcement action which could result in an order prohibiting your involvement in NRC- licensed activities for a specified period of time.

III

Based on the above, Huey, an employee of Titan, engaged in deliberate misconduct that caused Titan to be in violation of 10 CFR 34.41(a). The NRC must be able to rely on its licensees and their employees to comply with NRC requirements. Huey's action in causing Titan to violate 10 CFR 34.41(a) has raised serious doubt as to whether he can be relied upon to comply with NRC requirements and to provide complete and accurate information to the NRC.

Consequently, I lack the requisite reasonable assurance that licensed activities can be conducted in compliance with the NRC's requirements and that the health and safety of the public will be protected if Huey were permitted at this time to be involved in NRC-licensed activities. Therefore, the public health, safety, and interest require that Huey be prohibited from any involvement in NRC-licensed activities for a period of three years from the date of this Order. Additionally, Huey is required to notify the NRC of his first employment in NRC-licensed activities, including work performed in NRC jurisdiction under reciprocity, for a period of one year following the prohibition period.

IV

Accordingly, pursuant to sections 81, 161b, 161i, 182 and 186 of the Atomic Energy Act of 1954, as amended, and the Commission's regulations in 10 CFR 2.202, and 10 CFR 30.10, it is hereby ordered that:

1. David Huey is prohibited for three years from the date of this Order from conducting, supervising, directing, or in any other way engaging in NRC-licensed activities. NRC- licensed activities are those activities that are conducted pursuant to a specific or general license issued by the NRC, including, but not limited to, those activities of Agreement State licensees conducted pursuant to the authority granted by 10 CFR 150.20.

2. If David Huey is currently involved in NRC-licensed activities, he must immediately cease those activities; inform the NRC of the name, address, and telephone number of the employer or other entity for whom he is conducting NRC-licensed activities; and provide a copy of this Order to the employer or other entity.

3. For a period of one year after the three-year prohibition on engaging in NRC-licensed activities has expired, David Huey shall, within 20 days

4. of accepting his first employment offer involving NRC-licensed activities or otherwise first becoming involved in NRC-licensed activities, as defined in Section IV.1 above, provide notice to the Director, Office of Enforcement, U. S. Nuclear Regulatory Commission, Washington, DC 20555-0001, of the name, address, and telephone number of the employer or other entity for whom he will be participating in or conducting the NRC-licensed activities. In the notification, Huey shall include a statement of his commitment to compliance with regulatory requirements and the basis for why the Commission should have confidence that he will now comply with applicable NRC requirements. The Director, Office of Enforcement, or designee, may, in writing, relax or rescind any of the above conditions upon demonstration by David Huey of good cause.

V

In accordance with 10 CFR 2.202, Huey must submit a written answer to this Order under oath or affirmation within 30 days of its publication in the Federal Register. Huey's failure to respond to this Order could result in additional enforcement action in accordance with the Commission's Enforcement Policy. In addition, Huey and any other person adversely affected by this Order may request a hearing on this Order within 30 days of its publication in the Federal Register. Where good cause is shown, consideration will be given to extending the time to answer or request a hearing. A request for extension of time must be directed to the Director, Office of Enforcement, U.S. Nuclear Regulatory Commission, and include a statement of good cause for the extension.

All documents filed in NRC adjudicatory proceedings including documents filed by an interested state, local governmental body, federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as discussed below, is granted. Detailed guidance on electronic submissions is located in the Guidance for Electronic Submissions to the NRC (ADAMS Accession No. ML13031A0561) ¹ and on the NRC website at https://www.nrc.gov/site-help/e-submittals.html.

¹ Designation in parentheses refers to an Agency-wide Documents Access and Management System (ADAMS) accession number. Documents referenced in this letter are publicly available using the accession number in ADAMS.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system timestamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as described above, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

If a person other than Huey requests a hearing, that person shall set forth with particularity the manner in which their interest is adversely affected by this Order and shall address the criteria set forth in 10 CFR 2.309(d) and (f). If a hearing is requested by Huey or a person whose interest is adversely affected, the Commission will issue an Order designating the time and place of any hearings. If a hearing is held, the issue to be considered at such hearing shall be whether this Order should be sustained. In the absence of any request for hearing, or written approval of an extension of time in which to request a hearing, the provisions specified in Section IV above shall be final 30 days from the date this Order is published in the Federal Register without further order or proceedings. If an extension of time for requesting a hearing has been approved, the provisions specified in Section IV shall be final when the extension expires if a hearing request has not been received.

For the Nuclear Regulatory Commission.
Dated 12th day of December 2024.
David L. Pelton,
Director, Office of Enforcement.

[FR Doc. 2025-00558 Filed 1-13-25; 8:45 am]

BILLING CODE 7590-01-P